DEPARTMENT OF EDUCATION

Notice of Proposed Information Collection Requests

AGENCY: Department of Education.

SUMMARY: The Leader, Information Management Case Services Team, Regulatory Information Management Services, Office of the Chief Information Officer, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by November 10. A regular clearance process is also beginning. Interested persons are invited to submit comments on or before December 31, 2004.

ADDRESSES: Written comments regarding the emergency review should be addressed to the Office of Information and Regulatory Affairs, Attention: Carolyn Lovett, Desk Officer, Department of Education, Office of Management and Budget; 725 17th Street, NW., Room 10235, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Case Services Team, Information Management Services, Office of the Chief Information Officer, publishes this notice containing proposed information collection requests at the beginning of the Departmental review of the information collection. Each proposed information collection, grouped by office, contains the following: (1) Type of review requested, e.g., new, revision, extension, existing or reinstatement; (2) title; (3) summary of the collection; (4) description of the need for, and proposed use of, the information; (5) respondents and frequency of collection; and (6) reporting and/or recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: October 18, 2004.
Angela C. Arrington,
Leader, Information Management Case Services Team, Regulatory Information Management Services, Office of the Chief Information Officer.

Institute of Education Sciences

Type of Review: Reinstatement.

Title: IEA Progress in International Reading Literacy Study (PIRLS)

Abstract: PIRLS 2006 is a multi-national project coordinated by the International Association for the Evaluation of Educational Achievement. Approximately 46 countries will participate in this analysis of children's reading literacy and the factors association with reading acquisition. Children in grade 4 in the U.S. will be administered a reading test and the children, their teachers, and school administrators will also complete questionnaires about factors related to the development of reading literacy.

Additional Information: This is a request for emergency OMB clearance for the sampling and recruitment activities for the field test for the international surveys, Progress in International Reading Literacy Study (PIRLS) (1850-0755). Clearance is requested by November 10. The emergency clearance is necessary in order to comply with the international standard for field testing prior to full scale survey work. If this work sampling and recruitment of school participants doesn't commence in November it will delay the field test itself. This would potentially result in not being able to carry out the field test this school year. The main study itself is scheduled for next school year, 2005/2006. Because of the requirement for field testing, the potential harm is that the U.S. may not be able to participate in the study. The U.S. is one of the major participating and supporting countries involved in the international assessment activities represented by the PIRLS. International activities like the PIRLS are mandated under the legislation authorizing the National Center for Education Statistics, the Education Sciences Reform Act of 2002, HR 3801. The field test survey and assessment activities themselves will be conducted under regular clearance for which clearance packages have also been submitted.

Frequency: One time.

Affected Public: Individuals or household; State, Local, or Tribal Gov't, SEAs or LEAs.

Reporting and Recordkeeping Hour Burden: Responses—875. Burden Hours—1,082.

Requests for copies of the proposed information collection request may be accessed from http://edicsweb.ed.gov, by selecting the “Browse Pending Collections” link and by clicking on link number 2632. When you access the information collection, click on “Download Attachments” to view. Written requests for information should be addressed to U.S. Department of Education, 400 Maryland Avenue, SW., Potomac Center, 9th Floor, Washington, DC 20202-4700. Requests may also be electronically mailed to the Internet address OCIO_RIMG@ed.gov or faxed to 202-245-6621. Please specify the complete title of the information collection when making your request.

Comments regarding burden and/or the collection activity requirements, contact Kathy Axt at her e-mail address Kathy.Axt@ed.gov. Individuals who use a telecommunications device for the deaf (TDD) may call the Federal Information Relay Service (FIRS) at 1-800-877-8339.

[FR Doc. E4-2796 Filed 10-21-04; 8:45 am]

BILLING CODE 4000-01-P